DEPARTMENT OF COMMERCE

National Oceanic and Atmospheric Administration

50 CFR Part 679

[Docket No. 121121645-2645-01]

RIN 0648-BC80

Control Date for Qualifying Landings History in the Central Gulf of Alaska Trawl Groundfish Fisheries

AGENCY: National Marine Fisheries Service (NMFS), National Oceanic and Atmospheric Administration (NOAA), Commerce.

ACTION: Advance notice of proposed rulemaking (ANPR); control date.

SUMMARY: At the request of the North Pacific Fishery Management Council (Council), this notice announces a control date of December 31, 2012, that may be used as a reference for future management actions applicable to, but not limited to, qualifying landings and permit history for an allocation-based management or catch share program in the Central Gulf of Alaska (GOA) trawl groundfish fisheries. This date corresponds to the end of the fishing year for this fishery, so that the full catch history for 2012 may be considered in any such future management actions. We also expect that this notice will publish close to the control date of December 31, 2012, and so will not either prompt speculation in advance of the control date, or disadvantage any fishers regarding their fishing activity after the control date, but before publication. This notice is intended to promote awareness of possible rulemaking and provide notice to the public that any accumulation of landings history in the Central GOA trawl groundfish fisheries occurring after the control date may not be credited for purposes of making any allocation under a future management program. This notice is also intended to discourage speculative entry into the fisheries while the Council considers whether and how allocations of fishing privileges should be developed under a future management program.

DATES: December 31, 2012, shall be known as the control date for the Central GOA trawl groundfish fisheries and may be used as a reference for allocations in a future management program that is consistent with the Council's objectives and applicable Federal laws.

FOR FURTHER INFORMATION CONTACT: Rachel Baker: 907-586-7228 or rachel.baker@noaa.gov.

SUPPLEMENTARY INFORMATION: NMFS manages the groundfish fisheries in the U.S. exclusive economic zone (EEZ) of the GOA under the Fishery Management Plan for Groundfish of the Gulf of Alaska (FMP). The Council prepared, and NMFS approved, the FMP under the authority of the Magnuson-Stevens Fishery Conservation and Management Act (MSA), 16 U.S.C. 1801 et seq. Regulations governing U.S. fisheries and implementing the FMP appear at 50 CFR parts 600 and 679.

This advance notice of proposed rulemaking would apply to owners and operators of catcher vessels and catcher/processors participating in Federal fisheries prosecuted with trawl gear in the Central Reporting Area of the GOA. The Central Reporting Area, defined at § 679.2 and shown in Figure 3 to 50 CFR part 679, includes the Central Regulatory Area (Statistical Areas 620 and 630).

The Council and NMFS annually establish biological thresholds and annual total allowable catch limits for groundfish species to sustainably manage the groundfish fisheries in the GOA. To achieve these objectives, NMFS requires vessel operators participating in GOA groundfish fisheries to comply with various restrictions, such as fishery closures, to maintain catch within specified total allowable catch limits. The GOA groundfish fishery restrictions also include prohibited species catch (PSC) limits for species that are generally required to be discarded when harvested. When harvest of a PSC species reaches the specified PSC limit for that fishery, NMFS closes directed fishing for the target groundfish species, even if the total allowable catch limit for that species has not been harvested.

The Council and NMFS have long sought to control the amount of fishing in the North Pacific Ocean to ensure that fisheries are conservatively managed and do not exceed established biological thresholds. One of the measures used by the Council and NMFS is the license limitation program (LLP) which limits access to the groundfish, crab, and scallop fisheries in the Bering Sea and Aleutian Islands and the GOA. The LLP is intended to limit entry into federally managed fisheries. For groundfish, the LLP requires that persons hold and assign a license to each vessel that is used to fish in federally managed fisheries, with some limited exemptions. The preamble to the final rule implementing the groundfish LLP provides a more detailed explanation of the rationale for specific provisions in the LLP (October 1, 1998; 63 FR 52642).

Over the course of the past few years, the Council has recommended amendments to the FMP to reduce the use of PSC in the GOA fisheries. Under Amendment 93 to the FMP, the Council recommended, and NMFS approved, Chinook PSC limits in the GOA pollock (Theragra chalcogramma) trawl fisheries (77 FR 42629, July 20, 2012). In June 2012, the Council recommended an FMP amendment to reduce halibut PSC limits for the trawl and longline fisheries in the Central GOA and Western GOA. This series of actions reflects the Council's commitment to reduce PSC in the GOA fisheries. Participants in these fisheries, particularly the Central GOA trawl fisheries, have raised concerns that the current limited access management system creates a substantial disincentive for participants to take actions to reduce PSC usage, particularly if those actions could reduce target catch rates. Additionally, any participants who choose not to take actions to reduce PSC usage stand to gain additional target catch by continuing to harvest groundfish at a higher catch rate, at the expense of any vessels engaged in PSC avoidance. In October 2012, the Council unanimously adopted a purpose and need statement, and goals and objectives, to support the development of a management system that would remove this disincentive to reduce PSC usage.

The Council intends to develop a management program that would replace the current limited access management program with allocations of allowable harvest (catch shares) to individuals, cooperatives, or other entities. The goal of the program is to improve stock conservation by creating vessel-level and/or cooperative-level incentives to control and reduce PSC, and to create accountability measures for participants when utilizing target, secondary, and PSC species. The Council also intends for the program to improve operational efficiencies, reduce incentives to fish during unsafe conditions, and support the continued participation of coastal communities that are dependent on the fisheries. The Council intends to develop an analysis of alternatives for a catch share management program that meets its goals and objectives. In developing the alternatives for analysis, the Council will consider how other fishery management programs have considered and applied MSA catch share provisions to meet similar goals and objectives.

To dampen the effect of speculative entry into the Central GOA trawl groundfish fisheries in anticipation of the future catch share program, the Council announced a control date of December 31, 2012. The Council stated that it may not credit any catch history in those fisheries after the control date for purposes of making allocations under a future management program. The control date may be used as a reference for future management measures in determining how to credit landings and permit history acquired before or after this date for purposes of establishing an allocation-based management program. The establishment of a control date, however, does not obligate the Council to use this control date or take any action or prevent the Council from selecting another control date or imposing limits on permits acquired prior to the control date. Accordingly, this notification is intended to promote awareness that the Council may develop a catch share management program to achieve its objectives for the Central GOA trawl fisheries; to provide notice to the public that any current or future accumulation of fishing privilege interests in the Central GOA trawl fisheries may be affected, restricted, or even nullified; and to discourage speculative participation and behavior in the fisheries while the Council considers whether and how fishing privileges should be assigned or allocated in the future. Any measures the Council considers may require changes to the FMP. Such measures may be adopted in a future amendment to the FMP, which would include opportunity for further public participation and comment.

NMFS encourages public participation in the Council's development of the Central GOA trawl groundfish fisheries catch share management program. Please consult the Council's web site at http://www.alaskafisheries.noaa.gov/npfmc/ for information on public participation in the Council's decision-making process.

This notification and control date do not impose any legal obligations, requirements, or expectation.

Authority: 16 U.S.C. 1801 et seq.

Dated: December 17, 2012.
Alan D. Risenhoover,
Director, Office of Sustainable Fisheries, performing the functions and duties of the Deputy Assistant Administrator for Regulatory Programs, National Marine Fisheries Service.

[FR Doc. 2012-30962 Filed 12-21-12; 8:45 am]

BILLING CODE 3510-22-P